NATIONAL LABOR RELATIONS BOARD

29 CFR Parts 101, 102, and 103

RIN 3142-AA08

Representation—Case Procedures

AGENCY: National Labor Relations Board.

ACTION: Final rule; correction.

SUMMARY: On Monday, December 15, 2014, the National Labor Relations Board issued a final rule regarding representation case procedures, 79 FR 74307. Since the publication of the rule, a number of minor errors have been noted throughout the Supplementary Information preceding the amendatory language. The errata sheet below corrects those errors.

DATES: These corrections will be effective on April 14, 2015.

FOR FURTHER INFORMATION CONTACT: Gary Shinners, Executive Secretary, National Labor Relations Board, 1099 14th Street NW., Washington, DC 20570, (202) 273-3737 (this is not a toll-free number), 1-866-315-6572 (TTY/TDD).

SUPPLEMENTARY INFORMATION:

Errata

On Monday, December 15, 2014, the National Labor Relations Board issued a final rule in the above-captioned proceeding. This errata sheet makes the following corrections to the supplementary information preceding the amendatory language of the final rule:

1. On p. 74308:

In the second column, first full paragraph, line 17, correct “proceeding” to read “proceedings”.

2. On p. 74311:

In the third column, line 1, correct “51735” to read “3822”.

In the third column, lines 2-3, correct “[b]efore issuing a proposed regulation” to read “[b]efore issuing a notice of proposed rulemaking”.

In the third column, lines 13-14, correct “76 FR 36829” to read “76 FR 36817, n.34”.

3. On page 74332:

In the third column, second full paragraph, line 12, add “a” before “review”.

4. On page 74337:

In the first column, first full paragraph, line 49, add a period after “representation”.

In the second column, first full paragraph, line 13, correct “dissenting” to read “concurring in part, concurring in the judgment in part, and dissenting in part”, and in line 3 of the block quotation from Denver Area Telecommunications Consortium, Inc., correct “most” to read “more”.

5. On page 74346:

In the second column, first full paragraph, line 13, “practice” should be in internal quotation marks.

6. On page 74351:

In the second column, line 6, correct “employees' workplace” to read “employee”, and in line 7 remove “(emphasis added)”.

7. On page 74359:

In the third column, first full paragraph, line 11, correct “8(b)(a)” to read “8(b)(1)”.

8. On page 74372:

In the first column, second paragraph, line 4, delete “in any event”.

9. On page 74385:

In the third column, lines 19-20, correct “rules” to read “Rules” and correct “Procedures” to read “Procedure”.

10. On page 74391:

In the second column, line 6, correct “slip op. at 2” to read “slip op. at 1”.

In the second column, line 13, correct “petition” to read “proceeding”.

11. On page 74402:

In the second column, line 29, add an open quotation mark before “[a]rgument”.

12. On page 74423:

In the first column, in the continuation of footnote 513, line 10, add “slip op. at 10” after “No. 76”.

In the first column, in the continuation of footnote 513, line 13, add “slip op. at 8” after “No. 72”.

In the first column, in the continuation of footnote 513, line 14, correct “purposes” to read “purpose”.

13. On page 74432:

In the second column, line 16 of footnote 542, remove “National Labor Relations”.

14. On page 74433:

In the second column, line 9 of footnote 550, correct “102-103” to read “102”.

In the second column, line 9 of footnote 550, correct “[I]n” to read “In”.

15. On page 74440:

In the first column, line 6 of footnote 591, correct “processses” to read “processes”.

16. On page 74446:

In the third column, line 10 of footnote 623, correct “Hanover” to read “Hannover”.

17. On page 74452:

In the second column, first full paragraph, line 22, add “abstract” before “law”.

In the second column, first full paragraph, line 27, remove “s” from “communication”.

In the second column, first full paragraph, line 28, correct “Employer” to read “employer.”

In the second column, first full paragraph, line 30, correct “363-64” to read “364”.

18. On page 74460:

In the second column, first full paragraph, line 12, add quotation mark after “practice”.

19. On page 74461:

In the third column, second full paragraph, line 29, remove “proposed” before “rule”.

In the third column, second full paragraph, line 35, correct “5 U.S.C. 604(a)(4)” to read “5 U.S.C. 604(a)(5)”.

20. On p. 74465:

In the second column, first full paragraph, line 3, correct “2480” to read “2823” and correct “2,777” to read “2,974”.

In the second column, first full paragraph, lines 4 and 8, correct “89.3%” to read “94.9%”.

In the second column, first full paragraph, line 7, correct “2,239” to read “2,379”.

21. On p. 74467:

In the second column, first full paragraph, line 14, correct “29” to read “30”.

In the second column, line 4 of footnote 729, correct “29” to read “30”.

By direction of the Board.
Dated: Washington, DC, April 6, 2015.
William B. Cowen,
Solicitor.

[FR Doc. 2015-08159 Filed 4-9-15; 8:45 am]

BILLING CODE 7545-01-P